DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Access to Recovery (ATR) Program (OMB No. 0930-0266)—Revision

The Center for Substance Abuse Treatment (CSAT) is charged with implementing the Access to Recovery (ATR) program which will allow grantees (States, Territories, the District of Columbia and Tribal Organizations) a means to implement voucher programs for substance abuse clinical treatment and recovery support services. The ATR program is part of a Presidential initiative to: (1) Provide client choice among substance abuse clinical treatment and recovery support service providers, (2) expand access to a comprehensive array of clinical treatment and recovery support options (including faith-based programmatic options), and (3) increase substance abuse treatment capacity. Monitoring outcomes, tracking costs, and preventing waste, fraud and abuse to ensure accountability and effectiveness in the use of Federal funds are also important elements of the ATR program. Grantees, as a contingency of their award, are responsible for collecting data from their clients at intake, discharge, and follow-up (at six months post intake).

The primary purpose of this data collection activity is to meet the reporting requirements of the Government Performance and Results Act (GPRA) by allowing SAMHSA to quantify the effects and accomplishments of SAMHSA programs. The following table is an estimated annual response burden for this effort.

Estimates of Annualized Hour Burden ¹
Center/form/respondent type | Number of respondents | Responses per respondent | Total responses | Hours per response | Total hour burden | Added burden proportion ² | Total annual burden hours
CSAT GPRA Client Outcome Measures for Access to Recovery Programs
Clients:
Adults | 53,333 | 3 | 160,000 | .33 | 52,800 | .33 | 17,424
Client Subtotal | 53,333 |  | 160,000 |  |  |  | 17,424
Data Extract: ³
Adult Records | 53,333 | 3 | 160,000 | .16 | 25,600 |  | 25,600
Data Extract Subtotal | 53,333 |  | 160,000 |  |  |  | 25,600
Upload ⁴ | 24 grants |  | 160,000 | 1 hr. per 6,000 records | 27 |  | 27
Upload Subtotal | 24 grants |  | 160,000 |  |  |  | 27
ATR Voucher Information and Voucher Transaction
Voucher information and transaction | 53,333 | 1.5 | 80,000 | .03 | 2,400 |  | 2,400
Voucher information and transaction Subtotal | 53,333 |  | 80,000 |  |  |  | 2,400
Subtotal | 160,000 |  | 480,000 |  |  |  | 45,451
Total | 160,000 |  | 480,000 |  |  |  | 45,451
Notes:
¹ This table represents the maximum additional burden if adult respondents provide three sets of responses/data.
² Added burden proportion is an adjustment reflecting customary and usual business practices programs engage in (e.g., they already collect the data items).
³ Data Extract: Grant burden for capturing customary and usual data.
⁴ Upload: All ATR grants upload data.

Send comments to Summer King, SAMHSA Reports Clearance Officer, Room 7-1044, One Choke Cherry Road, Rockville, MD 20857 AND e-mail her a copy at summer.king@samhsa.hhs.gov. Written comments should be received within 60 days of this notice.

Dated: October 29, 2007.
Elaine Parry,
Acting Director, Office of Program Services.

[FR Doc. E7-21583 Filed 11-1-07; 8:45 am]

BILLING CODE 4162-20-P